DEPARTMENT OF COMMERCE

National Oceanic and Atmospheric Administration

RIN 0648-XF909

Marine Mammals; File No. 21386

AGENCY: National Marine Fisheries Service (NMFS), National Oceanic and Atmospheric Administration (NOAA), Commerce.

ACTION: Notice; receipt of application.

SUMMARY: Notice is hereby given that North Slope Borough Department of Wildlife Management (Responsible Party: Taqulik Hepa), P.O. Box 69, Barrow, AK 99723, has applied in due form for a permit to collect, receive, import, and export marine mammal parts for scientific research.

DATES: Written, telefaxed, or email comments must be received on or before January 25, 2018.

ADDRESSES: The application and related documents are available for review by selecting “Records Open for Public Comment” from the “Features” box on the Applications and Permits for Protected Species (APPS) home page, https://apps.nmfs.noaa.gov, and then selecting File No. 21386 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 21386 in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to collect, receive, import, and export biological samples from pinnipeds and cetaceans annually for scientific research. Pinniped samples may include up to 100 each of bearded (Erignathus barbatus), ringed (Phoca hispida), spotted (P. larga), and ribbon (Histriophoca fasciata) seals. Cetacean samples may include up to 100 beluga whales (Delphinapterus leucas), 70 bowhead whales (Balaena mysticetus), 10 each of minke (Balaenoptera acutorostrata) and gray (Eschrichtius robustus) whales, and 10 harbor porpoise (Phocoena phocoena). Receipt, import, and export is requested worldwide. The primary source of samples will be subsistence harvested marine mammals in Alaska, however additional sources of samples may include foreign subsistence harvests, marine mammal strandings in foreign countries, and other foreign and domestic authorized researchers. The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 20, 2017.
Julia Harrison,
Chief, Permits and Conservation Division, Office of Protected Resources, National Marine Fisheries Service.

[FR Doc. 2017-27738 Filed 12-22-17; 8:45 am]

BILLING CODE 3510-22-P